GENERAL SERVICES ADMINISTRATION

[OMB Control No. 3090-0040]

Submission for OMB Review; Comment Request Entitled Application for Shipping Instructions and Notice of Availability

AGENCY: Federal Supply Service, GSA.

ACTION: Notice of request for public comments regarding extension of a currently approved OMB clearance (3090-0040).

SUMMARY: Under the provisions of the Paperwork Reduction Act of 1995 (44 U.S.C. Chapter 35), the Office of Acquisition Policy has submitted to the Office of Management and Budget (OMB) a request to review and approve an extension of a curently approved information collection requirement concerning Application for Shipping Instructions and Notice of Availability. A request for public comments was published at 65 FR 70356, November 22, 2000. No comments were received.

DATES: Comment Due Date: June 7, 2001.

FOR FURTHER INFORMATION CONTACT: Shirley Jacks, Acquisition Operations & Electronic Commerce Center, Supply Management Division, (703) 305-7473.

ADDRESSES: Comments regarding this burden estimate or any other aspect of this collection of information, including suggestions for reducing this burden, should be submitted to: Edward Springer, GSA Desk Officer, Room 3235, NEOB, Washington, DC 20503, and to Stephanie Morris, General Services Administration (MVP), 100 F Street NW., Washington, DC 20405.

SUPPLEMENTARY INFORMATION:

A. Purpose

The GSA is requesting the Offie of Management and Budget (OMB) to reinstate information collection, 3090-0040, concerning Application for Shipping Instructions and Notice of Availability. This information collection supports and justifies the markup of the six percent surcharge for the GSA export reimbursable program. It also is used to evaluate and obtain the best cube utilization of shipping vans and containers for export direct delivery shipments. The form contains data necessary to prepare Transportation Control and Movement Documents (TCMD) which are required when material enters the Defense Transportation System.

B. Annual Reporting Burden

Respondents: 360.

Annual responses: 3,000.

Average hours per response: 20 minutes.

Burden hours: 1,000.

Obtaining Copies of Proposals

Requester may obtain a copy of the proposal from the General Services Administration, Acquisition Policy Division (MVP) Room 4035, 1800 F Street, NW., Washington, DC 20405, telephone (202) 208-7312. Please cite OMB control number 3090-0040, concerning Application for Shipping Instructions and Notice of Availability, in all correspondence.

David A. Drabkin,
Deputy Associate Administrator, Office of Acquisition Policy.

[FR Doc. 01-11530 Filed 5-7-01; 8:45 am]

BILLING CODE 6820-61-M